DEPARTMENT OF HOMELAND SECURITY

U.S. Citizenship and Immigration Services

8 CFR Parts 214, 215 and 274a

[CIS No. 2428-07; Docket No. USCIS-2007-0055]

RIN 1615-AB65

Changes to Requirements Affecting H-2A Nonimmigrants: Extending the Public Comment Period

AGENCY: U.S. Citizenship and Immigration Services, DHS.

ACTION: Proposed rule: extending the public comment period.

SUMMARY: U.S. Citizenship and Immigration Services (USCIS) announces the extension of the public comment period for the proposed rule entitled “Changes to Requirements Affecting H-2A Nonimmigrants.” The proposed rule was published in the Federal Register on February 13, 2008. Written comments on the proposed rule were to be submitted to USCIS on or before March 31, 2008 (a 45-day comment period) in order to be assured of consideration. USCIS has decided to accept comments from the public through April 14, 2008.

DATES: The comment period for the proposed rule published at 73 FR 8230, February 13, 2008, is extended through April 14, 2008. Comments received by USCIS after this date will not be considered.

ADDRESSES: You may submit comments, identified by DHS Docket No. USCIS-2007-0055, by one of the following methods:

• Federal eRulemaking Portal: http://www.regulations.gov. Follow the instructions for submitting comments.

• Mail: Chief, Regulatory Management Division, U.S. Citizenship and Immigration Services, Department of Homeland Security, 111 Massachusetts Avenue, NW., 3rd Floor, Washington, DC 20529. To ensure proper handling, please reference DHS Docket No. USCIS-2007-0055 on your correspondence. This mailing address may also be used for paper, disk, or CD-ROM submissions.

• Hand Delivery/Courier: Regulatory Management Division, U.S. Citizenship and Immigration Services, Department of Homeland Security, 111 Massachusetts Avenue, NW., 3rd Floor, Washington, DC 20529. Contact Telephone Number (202) 272-8377.

FOR FURTHER INFORMATION CONTACT: Hiroko Witherow, Service Center Operations, U.S. Citizenship and Immigration Services, Department of Homeland Security, 111 Massachusetts Avenue, NW., Suite 3000, Washington, DC 20529, telephone (202) 272-8410.

SUPPLEMENTARY INFORMATION: On February 13, 2008, the Department of Homeland Security (DHS) published a proposed rule in the Federal Register entitled “Changes to Requirements Affecting H-2A Nonimmigrants” at 73 FR 8230. This rule proposed amendments to DHS regulations affecting temporary and seasonal agricultural workers within the H-2A nonimmigrant classification and their U.S. employers. You may view a copy of the February 13, 2008, proposed rule at: http://a257.g.akamaitech.net/7/257/2422/01jan20081800/edocket.access.gpo.gov/2008/pdf/E8-2532.pdf

USCIS has decided to extend the comment period through April 14, 2008. Comments received by USCIS after April 14, 2008, will not be considered in drafting the final rule.

Dated: March 26, 2008.
Emilio T. Gonzalez,
Director, U.S. Citizenship and Immigration Services.

[FR Doc. E8-6605 Filed 3-28-08; 8:45 am]

BILLING CODE 4410-10-P